DEPARTMENT OF HEALTH AND HUMAN SERVICES

[Document Identifier: OS-0990-30-day notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 30 days of this notice directly to the OS OMB Desk Officer. All comments must be faxed to OMB at 202-395-6974.

Proposed Project: Hospital Preparedness Program (HPP) Data Collection Instrument (DCI)-0990-NEW—Office of the Assistant Secretary for Preparedness and Response.

Abstract: The Office of the Assistant Secretary, Hospital Preparedness Program (HPP) formerly Healthcare Systems Bureau (HSB), Division of Healthcare Preparedness (DHP), is proposing a Data Collection Instrument (DCI) to gather critical information from the 62 Awardees which include: States or political subdivisions of a State (cities and counties), and territories participating in HPP.

The DCI will capture information related to: performance measures, critical benchmarks, minimal levels of readiness, program statistics, policies and procedures, surge capacity elements, surge capacity as measured by exercises, and other pertinent information for programmatic improvement and tracking performance. The data will be gathered from mid-year progress reports on annual activities, final reports on annual activities, and progress indicator reports submitted to HPP.

Awardees will indicate the progress made toward each of the financial and programmatic objectives noted on their cooperative agreement application (CAA) on the mid-year progress report. The final report on annual activities will require Awardees to provide additional details on how objectives were achieved and how the program funds were spent toward achieving the program's critical benchmarks.

Estimated Annualized Burden Table
Forms (if necessary) | Type of respondent | Number of respondents | Number of responses per respondent | Average burden hours per response | Total burden hours
Mid-Year Report | States or political subdivisions of a State (cities and counties), and territories | 62 | 1 | 16 | 992
End-of-Year Report | States or political subdivisions of a State (cities and counties), and territories | 62 | 1 | 16 | 992
Total |  |  |  |  | 1984

John Teeter,
Office of the Secretary, Paperwork Reduction Act Reports Clearance Officer.

[FR Doc. E8-3736 Filed 2-27-08; 8:45 am]

BILLING CODE 4150-37-P